DEPARTMENT OF TRANSPORTATION

Federal Aviation Administration

14 CFR Part 77

[Docket No. FAA-2003-14972; Special Federal Aviation Regulation No. 98]

RIN 2120-AH83

Construction or Alteration in the Vicinity of the Private Residence of the President of the United States

AGENCY: Federal Aviation Administration (FAA), DOT.

ACTION: Disposition of comments on interim final rule.

SUMMARY: On April 22, 2003, the FAA adopted requirements concerning proposed construction or alteration of structures in the vicinity of the private residence of the President of the United States in Crawford, Texas. The rule requires that notice be filed with the FAA for the proposed construction or alteration of any object that exceeds 50 feet above ground level (AGL) and is within the existing lateral confines of the prohibited airspace over the private residence of the President of the United States (P-49). The rule was adopted for purposes of national defense and will assist in protecting the President of the United States. The rule does not apply to prior construction or alteration of objects and the rule will terminate at the end of the President's term in office. This action is a summary and disposition of comments received on the interim final rule.

FOR FURTHER INFORMATION CONTACT: Sheri Edgett-Baron, Airspace and Rules Division, ATA-400, Office of Air Traffic Airspace Management, Federal Aviation Administration, 800 Independence Avenue, SW., Washington, DC 20591; telephone (202) 267-8783.

SUPPLEMENTARY INFORMATION:

Availability of Rulemaking Documents

You can get an electronic copy using the Internet by:

(1) Searching the Department of Transportation's electronic Docket Management System (DMS) Web page (http://dms.dot.gov/search);

(2) Visiting the Office of Rulemaking's Web page at http://www.faa.gov/avr/arm/index.cfm; or

(3) Accessing the Government Printing Office's Web page at http://www.access.gpo.gov/su_docs/aces/aces140.html.

You can also get a copy by submitting a request to the Federal Aviation Administration, Office of Rulemaking, ARM-1, 800 Independence Avenue, SW., Washington, DC 20591, or by calling (202) 267-9680. Make sure to identify the amendment number or docket number of this rulemaking.

Anyone is able to search the electronic form of all comments received into any of our dockets by the name of the individual submitting the comment (or signing the comment, if submitted on behalf of an association, business, labor union, etc.). You may review DOT's complete Privacy Act statement in the Federal Register published on April 11, 2000 (Volume 65, Number 70; Pages 19477-78) or you may visit http://dms.dot.gov.

Background

On March 26, 2001, the FAA published a final rule in the Federal Register establishing prohibited airspace (P-49) over the private residence of the President in Crawford, Texas (66 FR 16391). [The FAA subsequently modified P-49 by relocating the center of the prohibited area approximately one-half mile east, southeast (68 FR 7917; February 19, 2003.)] The airspace designation is necessary to enhance security in the immediate vicinity of the presidential residence and assist the SSPPD in accomplishing its mission of providing security for the President of the United States. While that rule prohibits unauthorized aircraft from flying within the designated airspace, it does not address certain flight safety and national security issues concerning the transport of the President.

The President's private residence in Crawford, Texas has several landing areas for Presidential aircraft. Each landing area must be accessible by flying several different approaches, depending on the weather, threat conditions, aircraft being used, and departure location. Also, the special operating procedures used by the United States Marine Corps (USMC) and the Secret Service Presidential Protective Division (SSPPD), including the use of multiple aircraft, non-standard flight techniques and other special security provisions, require the airspace surrounding the landing areas to be clear of obstructions that could affect these operating procedures and the safety of the President. Obstructions above 50 feet AGL in certain locations within the designated area could inhibit the flexibility of these special operating procedures and could compromise the safe transportation and the security of the President, particularly in emergency situations.

Discussion of Comments

The FAA received three comments on the Construction or Alteration in the Vicinity of the Private Residence of the President of the United States interim final rule (Special Federal Aviation Regulation (SFAR) No. 98).

All of the commenters opposed the regulation. The commenters were concerned that the regulation would only be in effect for the term of the current President and that the regulation might have a detrimental effect on the local business community. In addition, one commenter questioned whether the FAA would pass a rule like this one for every future President. If not, the commenter questioned why the FAA was enacting this rule for one man.

The FAA appreciates the commenters concerns. It is significant that the rule does not explicitly prohibit all proposed construction within the affected area. Certain new construction or alteration to existing structures that would exceed 50 feet AGL may in fact be compatible with the safe and secure transport of the President. Under the adopted process, the proponent of the construction/alteration must submit detailed information regarding the proposed construction/alteration. If the FAA, in consultation with the USMC and the SSPPD, determines that it would not adversely affect safety and not result in a hazard to air navigation, the FAA would issue a Determination of No Hazard.

As noted by commenters, the interim final rule that the FAA published on April 22, 2003 (68 FR 19730) will be in effect only for the duration of President George W. Bush's term of office. The FAA recognizes that all Presidents' private residences raise safety and national security concerns. However, the protections necessary to ensure the safe ingress and egress of the President may vary substantially depending on the nature and location of each President's residence. As we stated in SFAR No. 98, we anticipate that similar rules, tailored to the security concerns of the Presidential residence, may be needed at other locations to protect the transportation of future Presidents.

Conclusion

After consideration of the comments submitted in response to the interim final rule, the FAA has determined that no further rulemaking action is necessary. SFAR No. 98 remains in effect as adopted.

Issued in Washington, DC, on January 29, 2004.
Marion C. Blakey,
Administrator.

[FR Doc. 04-2450 Filed 2-5-04; 8:45 am]

BILLING CODE 4910-13-P